DEPARTMENT OF DEFENSE

Office of the Secretary

[Docket No. USA-2007-0014]

Submission for OMB Review; Comment Request

ACTION: Notice.

The Department of Defense has submitted to OMB for clearance, the following proposal for collection of information under the provisions of the Paperwork Reduction Act (44 U.S.C. Chapter 35).

DATES: Consideration will be given to all comments received by July 9, 2012.

Title and OMB Number: Assessing Human Response to Military Impulse Noise; OMB Control Number 0710-TBD.

Type of Request: Reinstatement.

Number of Respondents: 958.

Responses per Respondent: 15.64.

Annual Responses: 14,983.

Average Burden per Response: 0.0792 hours.

Annual Burden Hours: 1,187.

Needs and Uses: This information collection requirement is necessary to obtain information on the relationship between community annoyance and complaints, related to impulsive noise from military installations. The information will provide the necessary tools and guidance for military installations to effectively balance the need for training operations at military installations with public safety and welfare.

Affected Public: Individuals or households.

Frequency: On occasion.

Respondent's Obligation: Voluntary.

OMB Desk Officer: Mr. Jim Laity.

Written comments and recommendations on the proposed information collection should be sent to Mr. Laity at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD/Information Management Division, 4800 Mark Center Drive, East Tower, Suite 02G09, Alexandria, VA 22350-3100.

Dated: March 30, 2012.
Patricia L. Toppings,
OSD Federal Register Liaison Officer, Department of Defense.

[FR Doc. 2012-13790 Filed 6-6-12; 8:45 am]

BILLING CODE 5001-06-P